SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: December 1-31, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22 (e) and (f) for the time period specified above.

Water Source Approval—Issued Under 18 CFR 806.22(e):

1. Plainville Brands, LLC—Plainville Farms, ABR-202312005; New Oxford Borough, Adams County, Pa.; Consumptive Use of Up to 0.380 mgd; Approval Date: December 6, 2023.

2. Penn State Health Hampden Medical Center—Hampden Medical Center; ABR-202312006; Hampden Township, Cumberland County, Pa.; Consumptive Use of Up to 0.1620 mgd; Approval Date: December 7, 2023.

Water Source Approval—Issued Under 18 CFR 806.22(f):

1. Coterra Energy Inc.; Pad ID: DobrosielskiJ P1; ABR-202312003; Auburn & Dimock Townships, Susquehanna County, Pa.; Consumptive Use of Up to 5.0000 mgd; Approval Date: December 7, 2023.

2. RENEWAL—Chesapeake Appalachia, L.L.C.; Pad ID: Amcor; ABR-201211018.R2; Meshoppen Township, Wyoming County, Pa.; Consumptive Use of Up to 7.5000 mgd; Approval Date: December 8, 2023.

3. RENEWAL—Chesapeake Appalachia, L.L.C.; Pad ID: Joeguswa; ABR-201211019.R2; Cherry Township, Sullivan County, Pa.; Consumptive Use of Up to 7.5000 mgd; Approval Date: December 8, 2023.

4. RENEWAL—Chesapeake Appalachia, L.L.C.; Pad ID: Lucarino Drilling Pad #1; ABR-201112010.R2; Wilmot Township, Bradford County, Pa.; Consumptive Use of Up to 7.5000 mgd; Approval Date: December 8, 2023.

5. RENEWAL—Range Resources—Appalachia, LLC; Pad ID: State Game Lands 075A—East Pad; ABR-201311005.R2; Pine Township, Lycoming County, Pa.; Consumptive Use of Up to 4.0000 mgd; Approval Date: December 8, 2023.

6. RENEWAL—Seneca Resources Company, LLC; Pad ID: Sherman 492W; ABR-201310001.R2; Sullivan Township, Tioga County, Pa.; Consumptive Use of Up to 4.0000 mgd; Approval Date: December 8, 2023.

7. RENEWAL—SWN Production Company, LLC; Pad ID: TNT 1 LIMITED PARTNERSHIP; ABR-201112006.R2; New Milford Township, Susquehanna County, Pa.; Consumptive Use of Up to 4.9990 mgd; Approval Date: December 8, 2023.

8. Coterra Energy Inc.; Pad ID: ConboyT P1; ABR-202312002; Middletown Township, Susquehanna County, Pa.; Consumptive Use of Up to 5.0000 mgd; Approval Date: December 10, 2023.

9. Greylock Production, LLC; Pad ID: Ron Well Pad; ABR-202312001; Hector Township, Potter County, Pa.; Consumptive Use of Up to 6.0000 mgd; Approval Date: December 10, 2023.

10. RENEWAL—Chesapeake Appalachia, L.L.C.; Pad ID: Edger; ABR-201112020.R2; Smithfield Township, Bradford County, Pa.; Consumptive Use of Up to 7.5000 mgd; Approval Date: December 18, 2023.

11. RENEWAL—Chesapeake Appalachia, L.L.C.; Pad ID: RGB; ABR-201112021.R2; Smithfield Township, Bradford County, Pa.; Consumptive Use of Up to 7.5000 mgd; Approval Date: December 18, 2023.

12. RENEWAL—Chesapeake Appalachia, L.L.C.; Pad ID: Wildonger; ABR-201112026.R2; Wyalusing Township, Bradford County, Pa.; Consumptive Use of Up to 7.5000 mgd; Approval Date: December 18, 2023.

13. RENEWAL—Chesapeake Appalachia, L.L.C.; Pad ID: Yost; ABR-201112022.R2; Franklin Township, Bradford County, Pa.; Consumptive Use of Up to 7.5000 mgd; Approval Date: December 18, 2023.

14. RENEWAL—Coterra Energy Inc.; Pad ID: CareyR P1; ABR-201112023.R2; Harford Township, Susquehanna County, Pa.; Consumptive Use of Up to 5.0000 mgd; Approval Date: December 18, 2023.

15. RENEWAL—Seneca Resources Company, LLC; Pad ID: DCNR 007 Pad K; ABR-201112018.R2; Delmar Township, Tioga County, Pa.; Consumptive Use of Up to 4.0000 mgd; Approval Date: December 18, 2023.

16. RENEWAL—SWN Production Company, LLC; Pad ID: NR-11-DAYTON-PAD; ABR-201312002.R2; Great Bend Township, Susquehanna County, Pa.; Consumptive Use of Up to 4.9990 mgd; Approval Date: December 18, 2023.

17. RENEWAL—SWN Production Company, LLC; Pad ID: NR-14-BRANT-PAD; ABR-201312001.R2; Great Bend Township, Susquehanna County, Pa.; Consumptive Use of Up to 4.9990 mgd; Approval Date: December 18, 2023.

18. RENEWAL—SWN Production Company, LLC; Pad ID: RU-40-BREESE-PAD; ABR-201312003.R2; New Milford Township, Susquehanna County, Pa.; Consumptive Use of Up to 4.9990 mgd; Approval Date: December 18, 2023.

19. RENEWAL—Seneca Resources Company, LLC; Pad ID: Cotton Hanlon 595; ABR-201612001.R1; Sullivan Township, Tioga County, Pa.; Consumptive Use of Up to 4.0000 mgd; Approval Date: December 20, 2023.

20. RENEWAL—EQT ARO LLC; Pad ID: Kurt Haufler Pad A; ABR-201312005.R2; Cogan House Township, Lycoming County, Pa.; Consumptive Use of Up to 4.0000 mgd; Approval Date: December 26, 2023.

21. RENEWAL—Repsol Oil & Gas USA, LLC; Pad ID: STICKNEY (07 087) A; ABR-201312004.R2; Choconut Township, Susquehanna County, Pa.; Consumptive Use of Up to 6.0000 mgd; Approval Date: December 26, 2023.

22. RENEWAL—Seneca Resources Company, LLC; Pad ID: Scheible 898; ABR-201112039.R2; Deerfield Township, Tioga County, Pa.; Consumptive Use of Up to 4.0000 mgd; Approval Date: December 26, 2023.

23. RENEWAL—SWN Production Company, LLC; Pad ID: LOCH; ABR-201112031.R2; Cogan House Township, Lycoming County, Pa.; Consumptive Use of Up to 4.9990 mgd; Approval Date: December 26, 2023.

24. Inflection Energy (PA) LLC; Pad ID: Easton Well Site; ABR-202312004; Upper Fairfield Township, Lycoming County, Pa.; Consumptive Use of Up to 4.0000 mgd; Approval Date: December 29, 2023.

25. RENEWAL—Coterra Energy Inc.; Pad ID: Jeffers Farms P1; ABR-201112003.R2; Harford Township, Susquehanna County, Pa.; Consumptive Use of Up to 5.0000 mgd; Approval Date: December 29, 2023.

Authority: Public Law 91-575, 84 Stat. 1509 et seq., 18 CFR parts 806 and 808.

Dated: January 5, 2024.
Jason E. Oyler,
General Counsel and Secretary to the Commission.

[FR Doc. 2024-00356 Filed 1-9-24; 8:45 am]

BILLING CODE 7040-01-P